SECURITIES AND EXCHANGE COMMISSION

17 CFR Part 200

[Release No. 34-40761A; File No. S7-13-98]

RIN 3235-AH39

Amendment to Rule Filing Requirements for Self-Regulatory Organizations Regarding New Derivative Securities Products; Correction

AGENCY: Securities and Exchange Commission.

ACTION: Correcting amendment.

SUMMARY: In connection with rules adopted in Release No. 34-40761 (December 8, 1998), 63 FR 70952 (December 22, 1998) (“Original Release”), the Commission is making a technical correction to the delegation of authority to the Director of the Division of Market Regulation appearing in the Commission's Rules of Practice and Investigations. Specifically, the Commission is correcting a cross-reference appearing in the delegation.

EFFECTIVE DATE: February 20, 1999.

FOR FURTHER INFORMATION CONTACT: Frances Sienkiewicz, Securities and Exchange Commission, at (202) 551-5418.

SUPPLEMENTARY INFORMATION: The Commission is making a technical correction to Rule 30-3(a)(59) of its Rules of Practice and Investigations. Currently, Rule 30-3(a)(59) contains a cross-reference to paragraph (e)(6)(iii) of Rule 19b-4 under the Securities Exchange Act of 1934. In connection with the adoption in the Original Release of a new paragraph (e) to Rule 19b-4, the cross-reference to paragraph (e)(6)(iii) of Rule 19b-4 appearing in Rule 30-3(a)(59) should have been redesignated as paragraph (f)(6)(iii) of Rule 19b-4, to reflect the redesignation of former paragraph (e) of Rule 19b-4 as paragraph (f) of Rule 19b-4. This document corrects that cross-reference.

List of Subjects in 17 CFR Part 200

Administrative practice and procedure, Authority delegations (Government agencies), Organization and functions (Government agencies).

Accordingly, 17 CFR part 200 is corrected by making the following correcting amendment:

PART 200—ORGANIZATION; CONDUCT AND ETHICS; AND INFORMATION AND REQUESTS

1. The authority citation for Part 200 continues to read in part as follows:

Authority: 15 U.S.C. 77o, 77s, 77sss, 78d, 78d-1, 78d-2, 78w, 78ll(d), 78mm, 80a-37, 80b-11, and 7202, unless otherwise noted.

* * * * *

§ 200.30-3 [Amended]

2. Section 200.30-3(a)(59) is amended by revising the cite “(e)(6)(iii)” to read “(f)(6)(iii)”.

Dated: January 5, 2007.
Nancy M. Morris,
Secretary.

[FR Doc. E7-238 Filed 1-10-07; 8:45 am]

BILLING CODE 8011-01-P